DEPARTMENT OF JUSTICE

Antitrust Division

Notice Pursuant to The National Cooperative Research and Production Act of 1993—National Armaments Consortium

Notice is hereby given that, on January 20, 2022, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, DKW Consulting LLC, Tallahassee, FL; Legacy Consulting Services LLC, Whiteford, MD; Timberghost Tactical LLC dba NovX Ammunition, Calhoun, GA; Unified Business Technologies, Inc., Troy, MI; CONTROP USA, Inc., Lanham, MD; Uptake Technologies, Inc., Chicago, IL; Chesapeake Technology International Corp., California, MD; Outpost Technologies, Inc., Huntsville, AL; DUPONT SPECIALTY PRODUCTS USA, LLC, Circleville, OH; Modern Intelligence, Inc., San Jose, CA; Fibertek, Inc., Herndon, VA; CAV Manufacturing, LLC, Salisbury, MD; Brigham Young University, Provo, UT; Energetics Technology Center, Inc., Indian Head, MD; Tidewater Machine Company, White Plains, MD; Advanced American Technologies LLC, Oak Ridge, TN; Flight Test & Mechanical Solutions, Inc., dba FMS Aerospace, Huntsville, AL; TRUSTEES OF THE COLORADO SCHOOL OF MINES, OFFICE OF RESEARCH ADMINISTRATION, Golden, CO; LEHIGH DEFENSE LLC, Quakertown, PA; NORTHROP GRUMMAN SYSTEMS CORPORATION, Linthicum Heights, MD; Blueshift Materials, Inc., Spencer, MA; Armorlube, LLC, Tuscon, AZ; LAINE LLC/LAINE Technologies, Goose Creek, SC; Sertainty Corporation, Nashville, TN; and Micor Industries, LLC, Decatur, AL, have been added as parties to this venture.

Also, George W. Solhan LLC, Tampa, FL; G. Schneider & Associates, Inc., Tempe, AZ; Advanced Hydrogen Technologies Corporation, Lenoir, NC; Applied Nanotech, Inc., Austin, TX; Navatek LLC, Honolulu, HI; Applied Technology, Inc., King George, VA; United Support Solutions-LMT, Inc., Grove, NJ; ProSync Technology Group, Inc., Ellicott City, MD; Nahsai LLC, Huston, TX; Iowa State University of Science and Technology, Ames, IA; The Curators of the University of Missouri, Columbia, MO; C3 Engineering LLC, Baltimore, MD; Johnson Technology Systems, Inc., Dover, NJ; and Reheat LLC, Marquette, MI, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on October 12, 2021. A notice was published in the Federal Register pursuant to Section 6(b) of the Act on November 26, 2021 (86 FR 67495).

Suzanne Morris,
Chief, Premerger and Division Statistics, Antitrust Division.

[FR Doc. 2022-05092 Filed 3-9-22; 8:45 am]

BILLING CODE 4410-11-P